DEPARTMENT OF DEFENSE

Department of the Navy

Notice of Availability of Record of Decision for the Final Environmental Impact Statement/Overseas Environmental Impact Statement for Gulf of Mexico Range Complex

AGENCY: Department of the Navy, DoD.

ACTION: Notice.

SUMMARY: The Department of the Navy (Navy), after carefully weighing the operational and environmental consequences of the proposed action, announces its decision to conduct Navy Atlantic Fleet training; research, development, testing, and evaluation (RDT&E) activities; and associated range capabilities enhancements in the Corpus Christi, New Orleans, Pensacola, and Panama City Operating Areas (OPAREAs) and associated airspace, land and overland components, hereafter referred to as the Gulf of Mexico (GOMEX) Range Complex. Title 10, United States Code (U.S.C.) Part 5062 directs the Chief of Naval Operations (CNO) to train all naval forces for combat. The CNO meets that direction, in part, by conducting at-sea training exercises and ensuring naval forces have access to ranges, OPAREAs and airspace where the Navy can develop and maintain skills for wartime missions and conduct RDT&E of naval weapons systems. The proposed action will be accomplished as set forth in Alternative 2, described in the Final Environmental Impact Statement (EIS)/Overseas Environmental Impact Statement (OEIS) as the Preferred Alternative. The purpose for the proposed action is to: (1) Achieve and maintain Fleet readiness using the GOMEX Range Complex to support and conduct current, emerging, and future training and RDT&E; (2) Expand warfare missions supported by the GOMEX Range Complex; and (3) Upgrade and modernize existing range capabilities to enhance and sustain Navy training and RDT&E. The need for the proposed action is to provide range capabilities for training and equipping combat-capable naval forces ready to deploy worldwide.

SUPPLEMENTARY INFORMATION: The Record of Decision (ROD) has been distributed to all individuals who requested a copy of the Final EIS/OEIS and to agencies and organizations that received a copy of the Final EIS/OEIS. The complete text of the ROD is available for public viewing on the project Web site at http://www.gomexrangecomplexeis.com/, along with copies of the Final EIS/OEIS and supporting documents. Single copies of the ROD will be made available upon request by contacting: Ms. Nora Gluch, Naval Facilities Engineering Command, Atlantic, 6506 Hampton Boulevard, Norfolk, Virginia 23508-1278; telephone: 757-322-4769.

Dated: March 1, 2011.
D.J. Werner,
Lieutenant Commander, Judge Advocate General's Corps, U.S. Navy, Federal Register Liaison Officer.

[FR Doc. 2011-5055 Filed 3-4-11; 8:45 am]

BILLING CODE 3810-FF-P